DEPARTMENT OF COMMERCE

Bureau of Industry and Security

Miscellaneous Activities

ACTION: Proposed collection: Comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before June 20, 2005.

ADDRESSES: Direct all written comments to Diana Hynek, Departmental Paperwork Clearance Officer, (202) 482-0266, Department of Commerce, Room 6611, 14th and Constitution Avenue, NW., Washington, DC 20230 (or via Internet at dhynek@doc.gov).

FOR FURTHER INFORMATION CONTACT: Requests for additional information or copies of the information collection instrument(s) and instructions should be directed to Patrick Heinig, BIS ICB Liaison, (202) 482-4848, Department of Commerce, Room 6716, 14th and Constitution Avenue, NW., Washington, DC, 20230.

SUPPLEMENTARY INFORMATION:

I. Abstract

On September 30, 1993, the Secretary of Commerce submitted to the Congress a report of the Trade Promotion Coordinating Committee, entitled Toward a National Export Strategy. The report included the goal to “Undertake a comprehensive review of the Export Administration Regulations to simplify, clarify, and make the regulations more user-friendly”. To carry out this recommendation, BIS has rewritten the entire EAR. To the extent activities have been added or changed but not deleted, this collection represents the authority to collect, on rare occasions, certain information from the public. This assembly of information collection activities is comprised of two activities. “Registration Of U.S. Agricultural Commodities For Exemption From Short Supply Limitations On Export”, and “Petitions For The Imposition Of Monitoring Or Controls On Recyclable Metallic materials; Public Hearings” are statutory in nature and—though they never have been applied—must remain a part of BIS's information collection budget authorization. The third—The Commerce Control List—became necessary as the rewrite of the Export Administration Regulations sought to harmonize the U.S. ECCN system with the European system for consistency and future simplicity.

However, this activity is no longer needed since the transformation from the old system to the new system is complete.

For the purpose of clarity, this abstract will refer to the two activities as follows:

USAG will refer to Registration Of U.S. Agricultural Commodities For Exemption From Short Supply Limitations On Export activities; and, petitions will refer to Petitions For The Imposition Of Monitoring Or Controls On Recyclable Metallic materials; Public Hearings activities.

II. Method of Collection

For USAG, the method is a written application for the exemption from Short Supply Limitations on Export Activities.

For petitions, the method is a written petition requesting the monitoring of exports or the imposition of export controls, or both, with respect to certain materials.

The same mailing address is used for both submissions: P.O. Box 273, Washington, DC 20230.

III. Data

OMB Number: 0694-0102.

Form Number: None.

Type of Review: Regular submission for extension of a currently approved collection.

Affected Public: Individuals, businesses or other for-profit and not-for-profit institutions.

Estimated Number of Respondents: 2.

Estimated Time Per Response: USAG: 5 hours per response; Petition: 5 hours per response.

Estimated Total Annual Burden Hours: 10.

Estimated Total Annual Cost: No capital expenditures are required.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: April 15, 2005.
Madeleine Clayton,
Management Analyst, Office of the Chief Information Officer.

[FR Doc. 05-7911 Filed 4-19-05; 8:45 am]

BILLING CODE 3510-33-P